DEPARTMENT OF COMMERCE

International Trade Administration

U.S. Department of Commerce Trade Finance Advisory Council; Meeting

AGENCY: International Trade Administration, U.S. Department of Commerce.

ACTION: Notice of an open meeting.

SUMMARY: The U.S. Department of Commerce Trade Finance Advisory Council (TFAC or Council) will hold a meeting on Thursday, October 3, 2019 at the Milken Institute, in Santa Monica, CA. The meeting is open to the public with registration instructions provided below.

DATES: Thursday, October 3, 2019 from approximately 9:00 a.m. to 12:00 noon Pacific Standard Time (PST). The deadline for members of the public to register, including requests to make comments during the meeting and for auxiliary aids, or to submit written comments for dissemination prior to the meeting, is 5:00 p.m. Eastern Standard Time on September 23, 2019. Registration, comments, and any auxiliary aid requests should be submitted via email to TFAC@trade.gov.

ADDRESSES: Milken Institute, 1250 4th Street, Santa Monica, CA 90401.

FOR FURTHER INFORMATION CONTACT: Ericka Ukrow, Designated Federal Officer, Office of Finance and Insurance Industries (OFII), International Trade Administration, U.S. Department of Commerce at (202) 482-0405; email: Ericka.Ukrow@trade.gov.

SUPPLEMENTARY INFORMATION:

Background

The TFAC was established on August 11, 2016, pursuant to discretionary authority and in accordance with the Federal Advisory Committee Act, as amended, 5 U.S.C. App., and re-chartered for a second two-year term on August 9, 2018.

The TFAC serves as the principal advisory body to the Secretary of Commerce on policy matters relating to access to trade finance for U.S. exporters, including small- and medium-sized enterprises, and their foreign buyers. The TFAC is the mechanism by which the Department of Commerce (the Department) convenes private sector stakeholders to identify and develop consensus-based solutions to trade finance challenges. The Council is comprised of a diverse group of stakeholders from the trade finance industry and the U.S. exporting community, as well as experts from academia and public policy organizations.

On October 3, 2019, the TFAC will hold the third meeting of its 2018-2020 charter term. During the meeting, TFAC subcommittee members will present recommendations on policies and programs that can increase awareness of, and expand access to, private export financing resources for U.S. exporters, for discussion with the broader TFAC and officials from the Department and other agencies. Meeting minutes will be available within 90 days of the meeting upon request or on the TFAC's website at www.trade.gov/tfac.

Public Participation

The meeting will be open to the public and there will be limited time permitted for public comments.

In order to be considered at the meeting, comments from members of the public must be submitted by the deadline identified under the DATES caption. Requests from members of the public to participate in the meeting, and for auxiliary aids, must be received by the same date submitted. Request should be submitted electronically to TFAC@trade.gov. Last minute requests will be accepted but may not be possible to accommodate.

Members of the public may submit written comments concerning TFAC affairs at any time before or after a meeting. Comments may be submitted to Ericka Ukrow, at the contact information indicated above. All comments and statements received, including attachments and other supporting materials, are part of the public record and subject to public disclosure.

Ericka Ukrow,
Senior International Trade Specialist, Designated Federal Officer Trade Finance Advisory Council, Office of Finance and Insurance Industries, Industry & Analysis.

[FR Doc. 2019-20304 Filed 9-18-19; 8:45 am]

BILLING CODE P